DEPARTMENT OF EDUCATION

Privacy Act of 1974; System of Records

AGENCY: Office of Chief Financial Officer, Department of Education.

ACTION: Notice of a new system of records.

SUMMARY: In accordance with the Privacy Act of 1974, as amended, the Department of Education (the Department) publishes this notice of a new system of records entitled Travel Manager System. The system will contain information on employee official travel and related expenses. The system is designed to prepare, edit, and manage travel documents including travel authorizations, travel vouchers, and local travel vouchers. It supports the capability to facilitate electronic signatures, automatic document routing, tracking, auditing, and importing and exporting of data. Travel Manager interfaces travel authorization and voucher information with the Department's core accounting system.

DATES: The Department seeks comment on the new system of records described in this notice, in accordance with the requirements of the Privacy Act. We must receive your comments on or before March 11, 2002. The Department filed a report describing the new system of records covered by this notice with the Chair of the Senate Committee on Governmental Affairs, the Chair of the House Committee on Government Reform, and the Administrator of the Office of Information and Regulatory Affairs, Office of Management and Budget (OMB) on February 4, 2002. This new system of records will become effective at the later date of: (1) The expiration of the 40-day period for OMB review on March 15, 2002 or at the expiration of a 30-day OMB review period on March 5, 2002 if OMB grants the Department's request for a ten day waiver of the review period, or (2) March 11, 2002, unless the system of records needs to be changed as a result of public comment or OMB review.

ADDRESSES: Address all comments about the proposed routine uses to Jeanne Johnson, Office of the Chief Financial Officer, U.S. Department of Education, 400 Maryland Avenue, SW., room 4E121, Washington, DC 20202-4445. If you prefer to send comments through the Internet, use the following address: comments@ed.gov.

You must include the term Travel Manager in the subject line of the electronic message.

During and after the comment period, you may inspect all comments about this notice in room 4E121, U.S. Department of Education, 400 Maryland Avenue, SW., Washington, DC, between the hours of 8 a.m. and 4:30 p.m., Eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Jeanne Johnson. Telephone: (202) 401-8512. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION:

Introduction

The Privacy Act (5 U.S.C. 552a) (Privacy Act) requires the Department to publish in the Federal Register this notice of a new system of records managed by the Department. The Department's regulations implementing the Act are contained in the Code of Federal Regulations (CFR) in 34 CFR part 5b.

The Privacy Act applies to information about individuals that contain individually identifiable information and that are retrieved by a unique identifier associated with each individual, such as a name or social security number. The information about each individual is called a record and the system, whether manual or computer-based, is called a system of records. The Privacy Act requires each agency to publish notices of systems of records in the Federal Register and to prepare reports to the Office of Management and Budget (OMB) whenever the agency publishes a new system of records.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: February 4, 2002.
Mark Carney,
Deputy Chief Financial Officer.

The Office of the Chief Financial Officer of the U.S. Department of Education publishes a notice of a new system of records to read as follows:

18-03-05

SYSTEM NAME:

Travel Manager System.

SECURITY CLASSIFICATION:

None.

SYSTEM LOCATION:

Office of Financial Management Operations, Office of the Chief Financial Officer, U.S. Department of Education, 400 Maryland Avenue, room 4W202, Washington, DC 20202.

See the Appendix at the end of this system notice for additional system locations.

CATEGORIES OF INDIVIDUALS COVERED BY THE SYSTEM:

This system contains records on employees, former employees and other individuals authorized to travel at government expense for the Department of Education (the Department).

CATEGORIES OF RECORDS IN THE SYSTEM:

The system contains a variety of records related to travel expenditures and related expenses in order to reimburse employees, former employees and other individuals authorized to travel at the expense of the government for the Department. This system also includes names, social security numbers, residential addresses, office locations, phone numbers, itineraries, mode of travel, purpose of travel, dates of travel, amounts claimed and amounts reimbursed.

AUTHORITY FOR MAINTENANCE OF THE SYSTEM:

5 U.S.C. Chapter 57.

PURPOSE(S):

The records in this system are used to provide the Department with (1) necessary information on the travel and transportation costs and (2) management information reports for expense control purposes. The records in this system also will be used to ensure that travel reimbursements are appropriately processed.

ROUTINE USES OF RECORDS MAINTAINED IN THE SYSTEM, INCLUDING CATEGORIES OF USERS AND THE PURPOSE OF SUCH USES:

The Department may disclose information contained in a record in this system of records under the routine uses listed in this system of records without the consent of the individual if the disclosure is compatible with the purposes for which the record was collected. These disclosures may be made on a case-by-case basis or, if the Department has complied with the computer matching requirements of the Act, under a computer matching agreement.

(1) Contractor Disclosure.If the Department contracts with an entity for the purposes of performing any function that requires disclosure of records in this system to employees of the contractor, the Department may disclose the records to those employees. Before entering into a contract, the Department shall require the contractor to maintain Privacy Act safeguards as required under 5 U.S.C. 552a(m) with respect to the records in the system.

(2) Disclosure for Use by Other Law Enforcement Agencies. The Department may disclose information to any Federal, State, local, or foreign agency or other public authority responsible for enforcing, investigating, or prosecuting violations of administrative, civil, or criminal law or regulation if that information is relevant to any enforcement, regulatory, investigative, or prosecutorial responsibility within the receiving entity's jurisdiction.

(3) Enforcement Disclosure. In the event that information in this system of records indicates, either on its face or in connection with other information, a violation or potential violation of any applicable statute, regulation, or order of a competent authority, the Department may disclose the relevant records to the appropriate agency, whether foreign, Federal, State, Tribal, or local, charged with the responsibility of investigating or prosecuting that violation or charged with enforcing or implementing the statute, Executive order, rule, regulation, or order issued pursuant thereto.

(4) Litigation and Alternative Dispute Resolution (ADR) Disclosures.

(a) Introduction. In the event that one of the parties listed below is involved in litigation or ADR, or has an interest in litigation or ADR, the Department may disclose certain records to the parties described in paragraphs (b), (c), and (d) of this routine use under the conditions specified in those paragraphs:

(i) The Department of Education, or any component of the Department; or

(ii) Any Department employee in his or her official capacity; or

(iii) Any Department employee in his or her individual capacity if the Department of Justice (DOJ) has been requested to or has agreed to provide or arrange for representation for the employee;

(iv) Any Department employee in his or her individual capacity where the Department has agreed to represent the employee; or

(v) The United States where the Department determines that the litigation is likely to affect the Department or any of its components.

(b) Disclosure to the DOJ. If the Department determines that disclosure of certain records to the DOJ is relevant and necessary to litigation or ADR, the Department may disclose those records as a routine use to the DOJ.

(c) Administrative or Judicial Disclosures. If the Department determines that disclosure of certain records to an adjudicative body before which the Department is authorized to appear or to an individual or entity designated by the Department or otherwise empowered to resolve or mediate disputes is relevant and necessary to the litigation or ADR, the Department may disclose those records as a routine use to the adjudicative body, individual, or entity.

(d) Parties, counsels, representatives and witnesses. If the Department determines that disclosure of certain records to a party, counsel, representative or witness is relevant and necessary to the litigation or ADR, the Department may disclose those records as a routine use to the party, counsel, representative or witness.

(5) Employment, Benefit, and Contracting Disclosure.

(a) For Decisions by the Department. The Department may disclose a record to a Federal, State, or local agency maintaining civil, criminal, or other relevant enforcement or other pertinent records, or to another public authority or professional organization, if necessary to obtain information relevant to a decision concerning the hiring or retention of an employee or other personnel action, the issuance of a security clearance, the letting of a contract, or the issuance of a license, grant, or other benefit.

(b) For Decisions by Other Public Agencies and Professional Organizations. The Department may disclose a record to a Federal, State, local, or foreign agency or other public authority or professional organization, in connection with the hiring or retention of an employee or other personnel action, the issuance of a security clearance, the reporting of an investigation of an employee, the letting of a contract, or the issuance of a license, grant, or other benefit, to the extent that the record is relevant and necessary to the receiving entity's decision on the matter.

(6) Employee Grievance, Complaint or Conduct Disclosure. The Department may disclose a record in this system of records to another agency of the Federal Government if the record is relevant to one of the following proceedings regarding a present or former employee of the Department: complaints, grievances, discipline or competence determination proceedings. The disclosure may only be made during the course of the proceeding.

(7) Labor Organization Disclosure. A component of the Department may disclose records to a labor organization if a contract between the component and a labor organization recognized under Title V of the United States Code, Chapter 71, provides that the Department will disclose personal records relevant to the organization's mission. The disclosures will be made only as authorized by law.

(8) Freedom of Information Act (FOIA) Advice Disclosure. The Department may disclose records to the Department of Justice and the Office of Management and Budget if the Department concludes that disclosure is desirable or necessary in determining whether particular records are required to be disclosed under the FOIA.

(9) Disclosure to the Department of Justice (DOJ). The Department may disclose records to the DOJ to the extent necessary for obtaining DOJ advice on any matter relevant to an audit, inspection, or other inquiry related to the programs covered by this system.

(10) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

(11) Congressional Member Disclosure. The Department may disclose records to a member of Congress from the record of an individual in response to an inquiry from the member made at the written request of that individual. The Member's right to the information is no greater than the right of the individual who requested it.

(12) Disclosure to the Office of Management and Budget (OMB) for Credit Reform Act (CRA) Support. The Department may disclose records to OMB as necessary to fulfill CRA requirements.

DISCLOSURE TO CONSUMER REPORTING AGENCIES:

Disclosures pursuant to 5 U.S.C. 552a(b)(12): The Department may disclose to a consumer reporting agency information regarding a claim by the Department which is determined to be valid and overdue as follows: (1) The name, address, taxpayer identification number and other information necessary to establish the identity of the individual responsible for the claim; (2) the amount, status, and history of the claim; and (3) the program under which the claim arose. The Department may disclose the information specified in this paragraph under 5 U.S.C. 552a(b)(12) and the procedures contained in subsection 31 U.S.C. 3711(e). A consumer reporting agency to which these disclosures may be made is defined at 31 U.S.C. 3701(a)(3).

POLICIES AND PRACTICES FOR STORING, RETRIEVING, ACCESSING, RETAINING, AND DISPOSING OF RECORDS IN THE SYSTEM:

STORAGE:

Records are maintained on a database server and in file folders in the Principal Offices of the traveler.

RETRIEVABILITY:

Records are retrieved by social security number and by name of individual.

SAFEGUARDS:

The system of records will be secured by permitting only designated individuals within the Department to access the database. Furthermore, the designated individual's access to personal computers, the network, and the system of records will require personal identifiers and unique passwords, which will be periodically changed to prevent unauthorized access. The building in which the system of records is housed is monitored by security personnel during business and non-business hours.

RETENTION AND DISPOSAL:

All records are to be retained for six years after which time they will be destroyed in accordance with the National Archives and Records Administration's General Records Schedule (GRS) 9, Item 3.

SYSTEM MANAGER(S) AND ADDRESS:

Deputy Chief Financial Officer, Office of the Chief Financial Officer, U.S. Department of Education, 400 Maryland Avenue, SW., Washington, DC 20202

NOTIFICATION PROCEDURE:

Any individual may request information regarding this system of records, or information as to whether the system contains records pertaining to him/her from the system manager. A request for information pertaining to an individual should be in writing and should contain: name, address, social security number and particulars involved.

RECORD ACCESS PROCEDURE:

If you wish to gain access to your record in this system, provide the system manager with your name, date of birth, and social security number. Your request must meet the regulatory requirements of 34 CFR 5b.5, including proof of identity.

CONTESTING RECORD PROCEDURE:

If you wish to contest the content of a record, contact the system manager. Your request must meet the regulatory requirements of 34 CFR 5b.7, including proof of identity.

RECORD SOURCE CATEGORIES:

Information in this system comes primarily from individuals who submit travel vouchers for reimbursement after travel is performed. Some of the information is obtained from the payroll and personnel systems maintained by the Department of the Interior.

SYSTEMS EXEMPTED FROM CERTAIN PROVISIONS OF THE ACT:

None.

Appendix to 18-03-05

Additional System Locations

Capitol Place, 555 New Jersey Avenue, NW, Washington, DC 20208.

Federal Building No. 6, 400 Maryland Avenue, SW Washington, DC 20202.

L'Enfant Plaza, 2100 Corridor, Washington, DC 20202.

Mary E. Switzer Building, 330 C Street, SW, Washington, DC 20202.

1990 K Street, NW, Washington, DC 20006.

Regional Office Building, 7th and D Streets, SW, Washington, DC 20202.

2100 M Street, NW, Washington, DC 20037.

1775 I Street, NW, Washington, DC 20006.

1255 22nd Street, NW, Washington, DC 20037.

400 Virginia Avenue, SW, Washington, DC 20202.

800 North Capitol Street, NW, Washington, DC 20001.

525 School Street, SW, 6th Street Entrance, Washington, DC 20407.

Union Center Plaza, 830 First Street, NE, Washington, DC 20202.

Region I McCormack PO & Ct Hs, Boston, MA 02109-4557.

Region II 65 Court St., Brooklyn, NY 11201-4916.

Region II Federal Building 150 Carlos Chardon Avenue Hato Rey, Puerto Rico 00918-1721.

Region III 100 Penn Square East, Suite 505, Philadelphia, PA 19107.

Region IV 61 Forsyth Street, SW, Atlanta, GA 30303.

Region IV 7890 Peters Road, Suite G-100, Plantation, FL 33324.

Region V 600 Superior Avenue, E Cleveland, OH 44114.

Region V 111 North Canal Street, Chicago, IL 60606.

Region VI 1999 Bryan Street, Suite 2700, Dallas, TX 75201.

Region VII 10220 N. Executive Hills Blvd, Suite 720, Kansas City, MO 64153-1367.

Region VIII Federal Building, 1244 Speer Blvd. Suite 310, Denver, CO 80204-3582.

Region IX 50 United Nations Plaza, San Francisco, CA 94102-4987.

Region X Jackson Federal Bldg. 915 Second Avenue, Seattle, WA 98174-1099.

[FR Doc. 02-2995 Filed 2-6-02; 8:45 am]

BILLING CODE 4000-01-U